DEPARTMENT OF COMMERCE

National Oceanic and Atmospheric Administration

RIN: 0648-XF48

North Pacific Fishery Management Council; Public Meeting

AGENCY: National Marine Fisheries Service (NMFS), National Oceanic and Atmospheric Administration (NOAA), Commerce.

ACTION: Notice of a public meeting.

SUMMARY: The North Pacific Fishery Management Council's (Council) Scallop Plan Team will meet in Anchorage, AK.

DATES: The meeting will be held on February 21, 2008, from 10 a.m. to 5 p.m. and February 22, 2008, from 9 a.m. to 2 p.m.

ADDRESSES: The meeting will be held a the Captain Cook Hotel, 939 W 5th Avenue, Club Room 2, 10th Floor, Anchorage, AK 99501

Council address: North Pacific Fishery Management Council, 605 W. 4th Ave., Suite 306, Anchorage, AK 99501-2252.

FOR FURTHER INFORMATION CONTACT: Diana Stram, Council staff; telephone: (907) 271-2809.

SUPPLEMENTARY INFORMATION: The agenda will include: Elect officers and discuss additional membership needs; discussion of current and future scallop survey techniques; central region assessment techniques, plans and management; review Status of Statewide Scallop Stocks and compile SAFE Report; discussion of ageing techniques and documentation issues; discussion of economics of the scallop fishery; and review and revise research priorities.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: February 1, 2008.
Tracey L. Thompson,
Acting Director, Office of Sustainable Fisheries, National Marine Fisheries Service.

[FR Doc. E8-2119 Filed 2-5-08; 8:45 am]

BILLING CODE 3510-22-S